FEDERAL COMMUNICATIONS COMMISSION

Federal Advisory Committee Act; Technological Advisory Council

AGENCY: Federal Communications Commission.

ACTION: Amendment to Notice of public meeting.

SUMMARY: In accordance with the Federal Advisory Committee Act, this notice advises interested persons that the Federal Communications Commission's (FCC or Commission) Technological Advisory Council (TAC) will hold its fourth meeting via live internet link.

DATES: Tuesday March 24, 2020.

ADDRESSES: The Meeting will be held via conference call and available to the public via the internet at http://www.fcc.gov/live.

FOR FURTHER INFORMATION CONTACT: Michael Ha, Chief, Policy and Rules Division 202-418-2099; michael.ha@fcc.gov.

SUPPLEMENTARY INFORMATION: The notice of this meeting was first published in the Federal Register on March 5, 2020. This amendment is to inform the public that the meeting will be held electronically only. The meeting will be held on Tuesday, March 24, 2020, from 10:00 a.m. to 3:00 p.m. EDT and may be viewed live, by the public, at http://www.fcc.gov/live. The meeting is being moved to a wholly electronic format in light of travel restrictions affecting members of the TAC related to the ongoing increase in coronavirus (COVID-19) cases.

At the March 24th meeting, the FCC Technological Advisory Council will hear presentations from its four working groups: 5G/IOT/V-RAN, Future of Unlicensed Operations, Artificial Intelligence, and 5G Radio Access Network Technology. The Commission will provide audio and/or video coverage of the meeting over the internet from the FCC's web page at http://www.fcc.gov/live. The public may submit written comments before the meeting to: Michael Ha, the FCC's Designated Federal Officer for Technological Advisory Council by email: michael.ha@fcc.gov or U.S. Postal Service Mail (Michael Ha, Federal Communications Commission, Room 2-A665, 445 12th Street SW, Washington, DC 20554). Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way for the FCC to contact the requester if more information is needed to fill the request. Please allow at least five days' advance notice for accommodation requests; last minute requests will be accepted, but may not be possible to accommodate.

Good Cause for Late Notice: This Amendment to Notice of public meeting is being published less than 15 days before the meeting date of March 24, 2020. There is good cause for this late notice. Specifically, the recent developments in the spread of COVID-19 have led the Commission to conclude that, in an abundance of caution, an electronic meeting is appropriate. The Commission has also announced this amendment to the public meeting by Public Notice posted on the Commission's website at https://www.fcc.gov/document/fcc-announces-next-meeting-technological-advisory-council-0.

Federal Communications Commission.
Ronald T. Repasi,
Acting Chief, Office of Engineering and Technology.

[FR Doc. 2020-05899 Filed 3-19-20; 8:45 am]

BILLING CODE 6712-01-P